DEPARTMENT OF AGRICULTURE

National Institute of Food and Agriculture

Notice of Intent To Extend and Revise a Previously Approved Information Collection

AGENCY: National Institute of Food and Agriculture, USDA.

ACTION: Approval of notice and request for comments.

SUMMARY: In accordance with the Paperwork Reduction Act of 1995 and Office of Management and Budget (OMB) regulations, this notice announces the National Institute of Food and Agriculture's (NIFA) intention to extend and revise a previously approved information collection entitled, “Research, Education, and Extension project online reporting tool (REEport).” NIFA is proposing to modify the collection in response to the August 25, 2022, Office of Science and Technology Policy Memorandum and audit findings of the USDA Office of Inspector General.

DATES: Written comments on this notice must be received by October 10, 2023 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION: Title of Collection: Research, Education, and Extension project online reporting tool (REEport).

OMB Control Number: 0524-0048.

Expiration Date of Current Approval: 8/31/2024.

Type of Request: Request to revise and extend a currently approved information collection. The burden estimate for this collection has been decreased because the number of respondents has decreased.

Abstract: The United States Department of Agriculture (USDA), NIFA administers several competitive, peer-reviewed research, education, and extension programs, under which high-priority awards are made. These programs are authorized pursuant to the authorities contained in the National Agricultural Research, Extension, and Teaching Policy Act of 1977, as amended (7 U.S.C. 3101 et seq.); the Smith-Lever Act (7 U.S.C. 341 et seq.); and other legislative authorities. NIFA utilizes the REEport system to collect both technical and financial data related to NIFA-funded competitive (non-capacity) projects and allows grantees to report significant accomplishments and impacts of their research, extension, and educational work.

NIFA is proposing to add additional reporting fields to REEport for two digital identifiers associated with publications that result from NIFA-funded projects. This information is currently collected in free text fields. This update will allow NIFA to clarify information requirements, meet public access requirements, and increase data validity. The first digital identifier is the Digital Object Identifier (DOI) registered to journal articles by publishers or content owners. The DOI will allow NIFA to eliminate the manual entry of publication data by grantees. The second digital identifier is a persistent identifier for data assets supporting NIFA-funded publications. Persistent identifiers for data assets may include DOI or other appropriate persistent identifiers as defined by an approved data management plan. NIFA proposes to collect the Open Researcher and Contributor ID (ORCID) for all NIFA-funded researchers and authors of NIFA-funded research products. The ORCID is a persistent digital identifier, available to individuals at no cost. Collecting persistent digital identifiers will help NIFA improve the robustness of its publication and other funding products data and be better positioned to demonstrate the value of its investments. The specific persistent identifier fields required will be updated in compliance with field and federal standards and best practices. The digital persistent identifier fields will be added to the Progress Report and Final Report in REEport.

Total Estimate of the Burden: The estimated annual reporting burden for the REEport collection is as follows:

I. Project Initiation

The total annual estimated burden for this information collection is 7,360 hours. This includes the time needed for participant education; data entry, aggregation, and reporting; and preparation, review, and submission of program plans and budgetary information. The number of respondents and responses for this report has decreased from 3,700 to 1,600 because NIFA now collects information about capacity grants in a different reporting system (the NIFA Reporting System (NRS)).

Estimated Number of Respondents: 1,600 per year.

Estimated Number of Responses per Respondent: 1.

Estimated Burden per Response: 4.6 hours.

Estimated Total Annual Burden on Respondents: 7,360 hours.

Frequency of Responses: Annually.

II. Financial Report

The total annual estimated burden for this information collection is 9,380 hours. This includes the time needed for participant education; data entry, aggregation, and reporting; and preparation, review, and submission of program plans and budgetary information. The number of respondents and responses for this report has decreased from 8,700 to 6,700 because NIFA now collects information about capacity grants in NRS.

Estimated Number of Respondents: 6,700 per year.

Estimated Number of Responses per Respondent: 1.

Estimated Burden per Response: 1.4 hours.

Estimated Total Annual Burden on Respondents: 9,380 hours.

Frequency of Responses: Annually.

III. Progress Report

The total annual estimated burden for this information collection is 25,460 hours. This includes the time needed for participant education; data entry, aggregation, and reporting; and preparation, review, and submission of program plans and budgetary information. NIFA proposes to collect persistent digital identifiers in this report but anticipates that this will not increase the amount of time needed to complete each response. The number of respondents and responses for this report has decreased from 8,700 to 6,700 because NIFA now collects information about capacity grants in NRS.

Estimated Number of Respondents: 6,700 per year.

Estimated Number of Responses per Respondent: 1.

Estimated Burden per Response: 3.8 hours.

Estimated Total Annual Burden on Respondents: 25,460 hours.

Frequency of Responses: Annually.

IV. Final Report

The total annual estimated burden for this information collection is 6,080 hours. This includes the time needed for participant education; data entry, aggregation, and reporting; and preparation, review, and submission of program plans and budgetary information. NIFA proposes to collect persistent digital identifiers in this report but anticipates that this will not increase the amount of time needed to complete each response. The number of respondents and responses for this report has decreased from 8,700 to 6,700 because NIFA now collects information about capacity grants in NRS.

Estimated Number of Respondents: 1,600 per year.

Estimated Number of Responses per Respondent: 1.

Estimated Burden per Response: 3.8 hours.

Estimated Total Annual Burden on Respondents: 6,080 hours.

Frequency of Responses: Once after end of project.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including using appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Washington, DC, this day of July 27, 2023.
Dionne Toombs,
Associate Director for Programs, National Institute of Food and Agriculture, U.S. Department of Agriculture.

[FR Doc. 2023-17004 Filed 8-8-23; 8:45 am]

BILLING CODE 3410-22-P